RAILROAD RETIREMENT BOARD

Agency Forms Submitted for OMB Review, Request for Comments

Summary: In accordance with the Paperwork Reduction Act of 1995 (44 U.S.C. Chapter 35), the Railroad Retirement Board (RRB) is forwarding an Information Collection Request (ICR) to the Office of Information and Regulatory Affairs (OIRA), Office of Management and Budget (OMB) to request an extension of a currently approved collection of information: 3220-0164, Availability for Work. Our ICR describes the information we seek to collect from the public. Review and approval by OIRA ensures that we impose appropriate paperwork burdens.

The RRB invites comments on the proposed collection of information to determine: (1) The practical utility of the collection; (2) the accuracy of the estimated burden of the collection; (3) ways to enhance the quality, utility and clarity of the information that is the subject of collection; and (4) ways to minimize the burden of collections on respondents, including the use of automated collection techniques or other forms of information technology. Comments to RRB or OIRA must contain the OMB control number of the ICR. For proper consideration of your comments, it is best if RRB and OIRA receive them within 30 days of publication date. Under Section 1(k) of the Railroad Unemployment Insurance Act, unemployment benefits are not payable for any day for which the claimant is not available for work.

Under Railroad Retirement Board (RRB) regulation 20 CFR 327.5, “available for work” is defined as being willing and ready for work. This section further provides that a person is “willing” to work if that person is willing to accept and perform for hire such work as is reasonably appropriate to his or her employment circumstances. The section also provides that a claimant is “ready” for work if he or she; (1) is in a position to receive notice of work and is willing to accept and perform such work, and (2) is prepared to be present with the customary equipment at the location of such work within the time usually allotted.

Under RRB regulation 20 CFR 327.15, a claimant may be requested at any time to show, as evidence of willingness to work, that he or she is making reasonable efforts to obtain work. In order to determine whether a claimant is; (a) available for work, and (b) willing to work, the RRB utilizes Forms UI-38 and UI-38s to obtain information from the claimant and Form ID-8k from his union representative. One response is completed by each respondent. The RRB proposes minor non-burden impacting editorial changes to Form(s) UI-38, UI-38s and ID-8k.

Previous Requests for Comments: The RRB has already published the initial 60-day notice (73 FR 10074 and 10075 on February 25, 2008) required by 44 U.S.C. 3506(c)(2). That request elicited no comments.

Information Collection Request (ICR)

Title: Availability for Work.

OMB Control Number: OMB 3220-0164.

Form(s) submitted: UI-38, UI-38s, ID-8k.

Type of request: Revision of a currently approved collection.

Affected public: Individuals or Households, Non-profit institutions.

Abstract: Under Section 1(k) of the Railroad Unemployment Insurance Act, unemployment benefits are not payable for any day in which the claimant is not available for work. The collection obtains information needed by the RRB to determine whether a claimant is willing and ready to work.

Changes Proposed: The RRB proposes minor, non-burden impacting, editorial changes to Form(s) UI-38, UI-38s, and ID-8k.

The burden estimate for the ICR is as follows:

Estimated Completion Time for Form(s): Form UI-38 is estimated at 11.5 minutes per response; Form UI-38s is estimated at 6 minutes per response in-person and 10 minutes per response by mail and Form ID-8k is estimated at 5 minutes per response.

Estimated annual number of respondents: 7,600.

Total annual responses: 7,600.

Total annual reporting hours: 1,085.

Additional Information or Comments: Copies of the form and supporting documents can be obtained from Charles Mierzwa, the agency clearance officer at (312-751-3363) or Charles.Mierzwa@rrb.gov.

Comments regarding the information collection should be addressed to Ronald J. Hodapp, Railroad Retirement Board, 844 North Rush Street, Chicago, Illinois 60611-2092 or Ronald.Hodapp@rrb.gov and to the OMB Desk Officer for the RRB, at the Office of Management and Budget, Room 10230, New Executive Office Building, Washington, DC 20503.

Charles Mierzwa,
Clearance Officer.

[FR Doc. E8-13431 Filed 6-13-08; 8:45 am]

BILLING CODE 7905-01-P